ENVIRONMENTAL PROTECTION AGENCY

[FRL-6715-7]

Adequacy Status of Submitted State Implementation Plans for Transportation Conformity Purposes: Houston-Galveston Area (HGA) Attainment Demonstration SIP for Ozone

AGENCY: Environmental Protection Agency (EPA).

ACTION: Notice of adequacy status.

SUMMARY: In this notice, the EPA is announcing that the motor vehicle emissions budgets contained in the submitted HGA Attainment Demonstration State Implementation Plan (SIP) for ozone are adequate for transportation conformity purposes. As a result of this determination, the budgets from the submitted attainment SIP must be used for transportation conformity determinations in the HGA. The EPA received two public comment letters.

DATES: These budgets are effective June 29, 2000.

FOR FURTHER INFORMATION CONTACT: Mr. J. Behnam, P. E., The U.S. Environmental Protection Agency, 1445 Ross Avenue, Dallas, Texas 75202; telephone (214) 665-7247.

SUPPLEMENTARY INFORMATION: Transportation conformity is required by section 176(c) of the Clean Air Act. The EPA's conformity rule, 40 CFR part 93, requires that transportation plans, programs, and projects conform to SIPs and establishes the criteria and procedures for determining whether or not they do. Conformity to a SIP means that transportation activities will not produce new air quality violations, worsen existing violations, or delay timely attainment of the national ambient air quality standards. The criteria by which EPA determines whether a SIP's motor vehicle emission budgets are adequate for conformity purposes are outlined in 40 CFR 93.118(e)(4). An adequacy review is separate from EPA's completeness review, and it should not be used to prejudge EPA's ultimate approval of the SIP. Even if we find a budget adequate, the SIP could later be disapproved.

On March 2, 1999, the D. C. Circuit Court of Appeals ruled that budgets contained in submitted SIPs cannot be used for conformity determinations unless EPA has affirmatively found the conformity budget adequate. We have described our process for determining the adequacy of submitted SIP budgets in the policy guidance dated May 14, 1999, and titled Conformity Guidance on Implementation of March 2, 1999 Conformity Court Decision. You may obtain a copy of this guidance from EPA's conformity web site: http://www.epa.gov/oms/traq (once there, click on “conformity” and then scroll down) or by contacting us at the address above.

By this notice, we are simply announcing the adequacy determination that we have already made. On November 15, 1999, we received the HGA attainment SIP which contained a volatile organic compounds budget of 79.00 tons/day and a nitrogen oxides budget of 195.00 tons/day. The public comment period closed on May 1, 2000. We received two public comment letters. We responded to all comments. After the public comment process, we sent a letter to the Texas Natural Resource Conservation Commission stating that these budgets are adequate and they must be used for transportation conformity determinations, and we enclosed a copy of our response to comments.

Therefore, the budgets contained in the submitted HGA attainment SIP as referenced above must be used for transportation conformity by the Metropolitan Planning Organization for the Houston-Galveston Area.

Dated: May 31, 2000.
Gregg A. Cooke,
Regional Administrator, Region 6.

[FR Doc. 00-15030 Filed 6-13-00; 8:45 am]

BILLING CODE 6560-50-P